DEPARTMENT OF THE INTERIOR

National Park Service

[NPS-WASO-VRP-OPH-21706; PPWOVPADH0, PPMPRHS1Y.Y00000 (166)]

Proposed Information Collection; National Park Service Office of Public Health Temporary Food Event Permit Program

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before November 22, 2016.

ADDRESSES: Send your comments on the IC to Madonna L. Baucum, Information Collection Clearance Officer, National Park Service, 12201 Sunrise Valley Drive (Mail Stop 242), Reston, VA 20192 (mail); or via email at madonna_baucum@nps.gov. Please include “1024-New TFE Permits” in the subject line of your comments.

FOR FURTHER INFORMATION CONTACT: To request additional information about this IC, contact Captain Sara B. Newman, National Park Service, 1201 Eye Street NW., Washington, DC 20005; or via email at sara_newman@nps.gov.

SUPPLEMENTARY INFORMATION:

I. Abstract

The National Park Service (NPS) Organic Act of 1916 (Organic Act) (54 U.S.C. 100101 et seq.) gives the NPS broad authority to regulate the use of the park areas under its jurisdiction. With over 400 NPS sites and hundreds of millions of visits per year, a large potential exists for exposure to disease agents within the NPS system. The NPS Office of Public Health (OPH) is an internal agency-specific public health capability, managed, funded and operated by NPS. This program is primarily staffed with commissioned corps officers on detail to the agency from the United States Public Health Service and is a national activity headquartered in Washington, DC with field staff located across the NPS system. Through disease surveillance and response, on-site evaluation/hazard analysis, consultation, policy guidance, and coordination with local, state and other federal health jurisdictions, OPH professionals assist park superintendents in protecting and promoting visitor health in the frontcountry and backcountry/wilderness. (NPS Management Policy 2006, 8.2.5.6)

Many special events that involve serving food to the public occur on NPS lands each year. The Food and Drug Administration (FDA) 2013 Food Code mandates that regular food safety inspections occur for Temporary Food Event (TFE) food service on NPS lands. To reduce the risk of foodborne illness, chemical poisoning, and accidental injury, OPH field staff assist park units with the identification and reduction or elimination of public health hazards associated with TFEs through permiting, consultation, and on-site evaluations of TFE facilities.

The TFE Permit Program was designed and implemented to protect and promote the health and safety of event attendees by requiring food safety training and inspection of food vendors. Several parks and regions have customized versions of the TFE forms. These customized versions of the forms are necessary due to unique local relationships with park partners and local jurisdictions, the frequency of TFE activity (often weekly), the type and level of risk of the food being served, and the extremely high volume of visitors served. The NPS utilizes the below listed forms in conjunction with the TFE Permit Program:

Form 10-675 “Application for TFE Permit”—Information collected via the 10-675 gathers information from prospective TFE operators to assess the menu, food sources, food preparation methods, food preparation sites and equipment for compliance with the FDA Food Code. The following information is collected:

• Operator Contact Information—needed for communication with prospective operators during the review process.

• Proposed Menu—needed to assess potential risks inherent to food categories.

• Proposed Food Sources—needed to ensure that operators a utilizing approved food sources.

• Proposed Preparation Methods—needed to assess whether the proposed equipment and facility are adequate to protect food safety during preparation, transport, holding and service.

• Proposed Food Preparation Sites—needed to assess whether proposed preparation sites meet Food Code requirements and provide adequate facilities for sanitary food production.

• Proposed TFE Site Equipment & Layout—needed to gather information about proposed TFE facilities, utilities, equipment and layout to assess whether the proposal contains adequate facilities and equipment to meet Food Code requirements and provide for sanitary food production.

Form 10-675A “Permit Application for a Temporary Food Establishment” (TFE)—Information collected via the 10-675A, used specifically by the National Mall and Memorial Parks in Washington, DC, gathers information from prospective TFE operators to assess the menu, food sources, food preparation methods, food preparation sites and equipment for compliance with the FDA Food Code. Information collected via the 10-675A includes:

• Instructions and Signature Page—helps ensure that the TFE applicant has read the instructions and agrees to comply with requirements.

• Part A—gathers contact information and type of TFE permit being applied for.

• Part B—gathers proposed menu items and assesses potential risks inherent to food categories.

• Part C—gathers proposed food preparation methods and assesses whether the proposed equipment and facility are adequate to protect food safety during preparation, transport, holding, and service.

• Part D and E—gathers information about proposed TFE facilities, utilities, equipment and layout to assess whether the proposal contains adequate facilities and equipment to meet Food Code requirements and provide for sanitary food production.

• Part F—obtains proof of official agreement for use of required off-site facilities.

Form 10-675B “Temporary Food Event (TFE) Vendor Application”—Information collected via the 10-675B, used specifically by the Gateway National Recreation Area in New York City, NY, gathers information from prospective TFE operators to assess the menu, food sources, food preparation methods, food preparation sites and equipment for compliance with the FDA Food Code. Information collected via the 10-675B includes:

• Event and Vendor Contact Information—needed for communication with prospective operators during the review process.

• Proposed Menu Items—assesses potential risks inherent to food categories.

• Food Temperature Control Methods—assesses the ability of the vendor to provide control of critical food temperatures.

• TFE Facilities and Utilities—assesses adequacy of facilities for handwashing, cleaning and sanitizing of equipment and utensils, adequate disposal of wastewater, and adequate supply of potable water.

• Documentation—requests necessary documentation of licensed approved food preparation facilities and adequate food safety training.

• Vendor Consent and Signature—obtains vendor's consent to terms of the permit.

Form 10-675C “Food Vendor Application—Fort Mason Center”—Information collected via the 10-675C, used specifically by the Fort Mason Center at Golden Gate National Recreation Area in San Francisco, CA, gathers information from prospective TFE operators to assess the menu, food sources, food preparation methods, food preparation sites and equipment for compliance with the FDA Food Code. Information collected via the 10-675C includes:

• Contact Information—needed for communication with prospective TFE organizers, vendors, and off-site establishments used for TFE food preparation.

• TFE Facilities and Utilities—assesses adequacy of facilities for handwashing, cleaning and sanitizing of equipment and utensils, adequate disposal of wastewater, and adequate supply of potable water.

• Food Temperature Control Methods—assesses the ability of the vendor to provide control of critical food temperatures.

• Proposed Menu Items—assesses potential risks inherent to food categories.

• Documentation—requests necessary documentation of licensed approved food preparation facilities and adequate food safety training.

• Vendor Consent and Signature—obtains vendor's consent to terms of the permit.

Form 10-675D “Food Vendor Application and Permit—Special Use Permit for Temporary Food Events”—Information collected via the 10-675D, used specifically by the Golden Gate National Recreation Area in San Francisco, CA, gathers information from prospective TFE operators to assess the menu, food sources, food preparation methods, food preparation sites and equipment for compliance with the FDA Food Code. Information collected via the 10-675C includes:

• Contact Information—needed for communication with prospective TFE organizers, vendors, and off-site establishments used for TFE food preparation.

• TFE Facilities and Utilities—assesses the adequacy of facilities for handwashing, cleaning and sanitizing of equipment and utensils, adequate disposal of wastewater, and adequate supply of potable water.

• Food Temperature Control Methods—assesses the ability of the vendor to provide control of critical food temperatures.

• Proposed Menu Items—assesses potential risks inherent to food categories.

• Documentation—requests necessary documentation of licensed approved food preparation facilities and adequate food safety training.

• Vendor Consent and Signature—obtains vendor's consent to terms of the permit.

• Offsite Licensed Food Establishment Owners Agreement—ensures food served at the TFE, but prepared offsite, is prepared in a licensed foodservice facility or commissary.

Form 10-675E “High Risk Food Vendor Application and Permit—Special Use Permit for Temporary Food Events”—Information collected via the 10-675E, used specifically by the Golden Gate National Recreation Area in San Francisco, CA, gathers information from prospective TFE operators to assess the menu, food sources, food preparation methods, food preparation sites and equipment for compliance with the FDA Food Code. Information collected via the 10-675C includes:

• Contact Information—needed for communication with prospective TFE organizers, vendors, and off-site establishments used for TFE food preparation.

• TFE Facilities and Utilities—assesses the adequacy of facilities for handwashing, cleaning and sanitizing of equipment and utensils, adequate disposal of wastewater, and adequate supply of potable water.

• Food Temperature Control Methods—assesses the ability of the vendor to provide control of critical food temperatures.

• Proposed Menu Items—assesses potential risks inherent to food categories.

• Documentation—requests necessary documentation of licensed approved food preparation facilities and adequate food safety training.

• Vendor Consent and Signature—obtains vendor's consent to terms of the permit.

• Offsite Licensed Food Establishment Owners Agreement—ensures food served at the TFE, but prepared offsite, is prepared in a licensed foodservice facility or commissary.

Form 10-676 “Temporary Food Event Coordinator's Application”—Information collected via the 10-676 gathers information about the TFE event and the event organizer and conveys information to the event organizer about the conditions of the TFE Permit. Information collected via the 10-676 includes:

• Event Coordinator and Sponsoring Organization contact information

• Event Information—location, number of vendors, dates, times etc.

Form 10-676C “Event Organizer Application and Permit—Fort Mason Center”—Information collected via the 10-676C, used specifically by the Fort Mason Center at Golden Gate National Recreation Area in San Francisco, CA, gathers information about the TFE event and the event organizer and conveys information to the event organizer about the terms and conditions of the TFE Permit. Information collected via the 10-676C includes:

• Event Coordinator and Sponsoring Organization contact information

• Event Information—location, number of vendors, dates, times etc.

• Signatures

Form 10-676D “PP Event Organizer TFE Application and Permit—Special Use Permit for Temporary Food Events”—Information collected via the 10-676D, used specifically by the Golden Gate National Recreation Area in San Francisco, CA, gathers information about the TFE event and the event organizer, and conveys information to the event organizer about the terms and conditions of the TFE Permit and provide permit fee information. Information collected via the 10-676 includes:

• Event Coordinator and Sponsoring Organization contact information

• Event Information—location, number of vendors, dates, times etc.

• Signatures

Form 10-676E “SPUG Event Organizer TFE Application and Permit—Special Use Permit for Temporary Food Events”—Information collected via the 10-676E, used specifically by the Golden Gate National Recreation Area in San Francisco, CA, gathers information about the TFE event and the event organizer, and conveys information to the event organizer about the terms and conditions of the TFE Permit and provide permit fee information. Information collected via the 10-676E includes:

• Event Coordinator and Sponsoring Organization contact information

• Event Information—location, number of vendors, dates, times etc.

• Signatures

Form 10-677 “Garden Questionnaire”—Information collected via the 10-677 gathers environmental health information about garden plots and local growers of produce which NPS concessions operations wish to utilize as an approved food source within their foodservice operations. This information is required because these sources of produce are not licensed by a local, state, or federal jurisdiction and would not normally meet the definition of an “approved source” in the FDA Food Code. The Information collected via the 10-677 includes:

• A—Garden Plot Location & Protection from Environmental Contamination

• B—Personal Hygiene Practices & Hygienic Facilities

• C—Plant & Seed Sources

• D—Water Source For Irrigation

• E—Herbicide & Insecticide Use

• F—Harvest & Preparation Practices

• G—NPS Compliance Information for Gardens Located on Park Property

• Signatures

II. Data

OMB Control Number: 1024-New.

Title: National Park Service Office of Public Health Temporary Food Event Permit Program.

Service Form Number(s): NPS Forms 10-675, 10-675A, 10-675B, 10-675C, 10-675D, 10-675E, 10-676, 10-676C, 10-676D, 10-676E, 10-677, and 10-678.

Type of Request: Existing collection in use without OMB approval.

Description of Respondents: Commercial vendors serving food to the public occur on Park Service property.

Respondent's Obligation: Required to obtain a benefit.

Frequency of Collection: On occasion.

Activity | Estimated annual number of respondents | Estimated annual number of responses | Estimated completion time per response | Estimated total annual burden hours
Form 10-675, “Application for a TFE Permit” | 54 | 84 | 1.5 | 126
Form 10-675A, “Permit Application for a Temporary Food Establishment (TFE)” | 30 | 40 | 2 | 80
Form 10-675B, “Temporary Food Event (TFE) Vendor Application” | 20 | 40 | 1 | 40
Form 10-675C, “Food Vendor Application—Fort Mason Center” | 700 | 1000 | 1 | 1000
Form 10-675D, “Food Vendor Application and Permit—Special Use Permit for Temporary Food Events” | 20 | 25 | 1 | 25
Form 10-675E, “High Risk Food Vendor Application and Permit—Special Use Permit for Temporary Food Events” | 12 | 12 | 1 | 12
Form 10-676, “Temporary Food Event Coordinator's Application” | 5 | 5 | 1 | 5
Form 10-676C, “Event Organizer Application and Permit—Fort Mason Center” | 90 | 90 | 1 | 90
Form 10-676D, “PP Event Organizer TFE Application and Permit—Special Use Permit for Temporary Food Events” | 4 | 8 | 1 | 8
Form 10-676E, “SPUG Event Organizer TFE Application and Permit—Special Use Permit for Temporary Food Events” | 12 | 12 | 1 | 12
Form 10-677, “Garden Questionnaire” | 2 | 2 | 5.25 | 10.50
Totals | 949 | 1,318 |  | 1,408.50

Estimated Annual Nonhour Burden Cost: $47,948. Currently, Golden Gate National Recreation Area (NRA) is the only park charging fees for temporary food permits. The park issues 839 total permits per year totaling $47,948 (Fort Mason Center = $45,249 (808 permits × $56 per form/permit) and Partner Events = $2,700 (30 permits × $90 per form/permit)).

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: September 19, 2016.
Madonna L. Baucum,
Information Collection Clearance Officer, National Park Service.

[FR Doc. 2016-22914 Filed 9-22-16; 8:45 am]

BILLING CODE 4310-EH-P